DEPARTMENT OF LABOR

Employment and Training Administration

[TA-W-51,066]

Komag, Inc., Materials Technology Division (KMT), Including Leased Workers of Manpower, Santa Rosa, CA; Notice of Revised Determination on Reconsideration

By application of May 28, 2003, a petitioner requested administrative reconsideration regarding the Department's Negative Determination Regarding Eligibility to Apply for Worker Adjustment Assistance, applicable to the workers of the subject firm.

The initial investigation resulted in a negative determination issued on April 21, 2003, based on the finding that imports of hard drive disks did not contribute importantly to worker separations at the subject plant and no shift of production to a foreign source occurred. The denial notice was published in the Federal Register on July 18, 2002 (67 FR 47399).

In the reconsideration review, it was revealed that the Department erred in its determination description of subject firm production as “hard drive disks”, when in fact the petitioning group produced substrates used in hard drive disks.

To support the request for reconsideration, the petitioner provided additional information to supplement that which was gathered during the initial investigation. Upon further review and contact with the company, it was revealed that the subject firm produced a type of substrate prototype that constituted a significant portion of subject firm production, and that this production was shifted to Malaysia. The investigation further revealed that this production is currently being imported to the United States.

Conclusion

After careful consideration of the facts obtained on reconsideration, I determine that there was a shift in production from the workers' firm or subdivision to Malaysia of articles that are like or directly competitive with those produced by the subject firm or subdivision, and there has been or is likely to be an increase in imports of like or directly competitive articles.

In accordance with the provisions of the Act, I make the following certification:

“Workers of Komag Inc., Materials Technology Division, Santa Rosa, California, engaged in employment related to the production of substrate prototypes, and leased workers of Manpower producing substrate prototypes at Komag Inc., Materials Technology Division, Santa Rosa, California, who became totally or partially separated from employment on or after January 14, 2002, through two years from the date of this certification, are eligible to apply for adjustment assistance under Section 223 of the Trade Act of 1974.”

Signed in Washington, DC this 24th day of November 2003.
Linda G. Poole,
Certifying Officer, Division of Trade Adjustment Assistance.

[FR Doc. 03-32284 Filed 12-31-03; 8:45 am]

BILLING CODE 4510-30-P